DEPARTMENT OF COMMERCE

Foreign-Trade Zones Board

[S-77-2017]

Foreign-Trade Zone 75—Phoenix, Arizona; Application for Subzone Expansion; Conair Corporation; Glendale, Arizona

An application has been submitted to the Foreign-Trade Zones (FTZ) Board by the City of Phoenix, Arizona, grantee of FTZ 75, requesting expanded subzone status for the facilities of Conair Corporation, located in Glendale, Arizona. The application was submitted pursuant to the provisions of the Foreign-Trade Zones Act, as amended (19 U.S.C. 81a-81u), and the regulations of the FTZ Board (15 CFR part 400). It was formally docketed on May 16, 2017.

Subzone 75A consists of the following site: Site 1 (100 acres) 7475 and 7811 North Glen Harbor Boulevard and 10640 and 10645 West Vista Avenue, Glendale. The applicant is now requesting authority to expand the subzone site to include an adjacent 44-acre parcel located at 7311 North Glen Harbor Boulevard, Glendale. No authorization for production activity has been requested at this time. The proposed subzone would be subject to the existing activation limit of FTZ 75.

In accordance with the FTZ Board's regulations, Christopher Kemp of the FTZ Staff is designated examiner to review the application and make recommendations to the Executive Secretary.

Public comment is invited from interested parties. Submissions shall be addressed to the FTZ Board's Executive Secretary at the address below. The closing period for their receipt is July 11, 2017. Rebuttal comments in response to material submitted during the foregoing period may be submitted during the subsequent 15-day period to July 26, 2017.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Christopher Kemp at Christopher.Kemp@trade.gov or (202) 482-0862.

Dated: May 26, 2017.
Elizabeth Whiteman,
Acting Executive Secretary.

[FR Doc. 2017-11327 Filed 5-31-17; 8:45 am]

BILLING CODE 3510-DS-P